DEPARTMENT OF EDUCATION

Withdrawal of Notice Inviting Applications and Cancellation of the Competition for Technical Assistance and Dissemination To Improve Services and Results for Children With Disabilities and Demonstration and Training Programs—National Technical Assistance Center on Transition for Students and Youth With Disabilities (NTACT)

AGENCY: Office of Special Education and Rehabilitative Services, Department of Education.

ACTION: Notice; withdrawal.

SUMMARY: The Department of Education (Department) withdraws the notice inviting applications (NIA) for fiscal year (FY) 2025 for Technical Assistance and Dissemination to Improve Services and Results for Children with Disabilities and Demonstration and Training Programs—National Technical Assistance Center on Transition for Students and Youth with Disabilities.

DATES: The NIA published in the Federal Register on January 15, 2025 (90 FR 3809), is withdrawn and the competition cancelled as of April 4, 2025.

FOR FURTHER INFORMATION CONTACT: Selete Avoke, U.S. Department of Education, 400 Maryland Avenue SW, Washington, DC 20202-5076. Telephone: (202) 245-7260. Email: Selete.Avoke@ed.gov; or Tara Jordan, Department of Education, 400 Maryland Avenue SW, Washington, DC 20202-5076. Telephone: (202) 987-0143. Email: Tara.Jordan@ed.gov.

If you are deaf, hard of hearing, or have a speech disability and wish to access telecommunications relay services, please dial 7-1-1.

SUPPLEMENTARY INFORMATION: On January 15, 2025, the Department published an NIA in the Federal Register for the fiscal year (FY) 2025 NTACT competition, Assistance Listing Number (ALN) 84.326E. The Department is withdrawing this NIA and cancelling the competition as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of federal education funding.

Program Authority: 20 U.S.C. 1463 and 1481; 29 U.S.C. 709(c) and 773(b).

Intergovernmental Review: This program is subject to Executive Order 12372 and the regulations in 34 CFR part 79.

Accessible Format: On request to the program contact persons listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at: www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Erin L. McHugh,
Deputy Assistant Secretary for Management and Planning and Acting Assistant Secretary for Special Education and Rehabilitative Services.

[FR Doc. 2025-05826 Filed 4-3-25; 8:45 am]

BILLING CODE 4000-01-P